FEDERAL COMMUNICATIONS COMMISSION

[CC Docket No. 94-102; DA 01-1520]

Petition for Reconsideration Regarding Allocation of Costs of E911 Implementation; Comments Invited

AGENCY: Federal Communications Commission.

ACTION: Solicitation of comments.

SUMMARY: This document invites comment on a Petition for Reconsideration (Petition) filed June 6, 2001, by four wireless carriers (Nextel Communications, Inc., Qwest Wireless, LLC, Verizon Wireless, and VoiceStream Wireless Corporation) operating in King County, Washington. The Petition challenges the Wireless Telecommunications Bureau's May 7, 2001 response to a letter from the E911 Program Manager for the King Country, Washington E-911 Program Office concerning the proper allocation of E911 implementation costs. In that letter, the Bureau clarifies that the proper demarcation point for allocating costs between wireless carriers and Public Safety Answering Points (PSAPs) is the input to the 911 Selective Router maintained by the Incumbent Local Exchange Carrier. The petitioners argue, among other things, that King County's request constituted an untimely request for reconsideration of the Second Memorandum Opinion and Order (64 FR 72951, December 29, 1999) in the ongoing E911 proceeding and an impermissible collateral attack on the Commission's decisions in that proceeding; that the Bureau's decision exceeds its delegated authority; and that the scope of the inquiry and conclusion reached require a notice-and-comment rulemaking proceeding. The full text of the petition is available for public inspection during regular business hours in the FCC Public Reference Room, Room CY-A257, 445 12th Street, SW., Washington, DC 20554. Pursuant to 47 CFR 1.1200(a), this proceeding is designated as a “permit but disclose” proceeding and subject to § 1.1206 of the Commission's rules. Presentations to or from Commission decision making personnel are permissible, provided that ex parte presentations are disclosed pursuant 47 CFR 1.1206(b).

Interested parties may file comments or oppositions responding to the Petition on or before July 30, 2001, and reply comments on or before August 14, 2001. Comments may be filed using the Commission's Electronic Comment Filing System (ECFS) or by filing paper copies. Comments filed through ECFS can be sent as an electronic file via the Internet to http://www.fcc.gov/e-file/ecfs.hmtl. Only one copy of an electronic submission must be filed. In completing the transmittal screen, commenters should include their full name, postal service mailing address, and the applicable docket or rulemaking number of this proceeding. Parties may also submit an electronic comment by Interest e-mail. To get filing instructions for e-mail comments, commenters should send an e-mail to ecfs@fcc.gov, and should include the following words in the body of the message, “get form [your e-mail address].” A sample form and directions will be send in reply. Parties who choose to file by paper must file an original and four copies of each filing.

DATES: Comments are due on or before July 30, 2001, and reply comments are due on or before August 14, 2001.

ADDRESSES: All paper filings must be sent to the Commission's Secretary, Magalie Roman Salas, Office of the Secretary, Federal Communications Commission, 445 12th Street, SW., Room TW A-325, Washington, DC 20554. A copy should also be sent to Jane Phillips,Room 3 A-200.

FOR FURTHER INFORMATION CONTACT: Jane Phillips, 202-418-1310.

Federal Communications Commission.
James D. Schlichting,
Deputy Chief, Wireless Telecommunications Bureau.

[FR Doc. 01-17248 Filed 7-9-01; 8:45 am]

BILLING CODE 6712-01-P